DEPARTMENT OF TRANSPORTATION

National Highway Traffic Safety Administration

[Docket No. NHTSA 2006-23684; Notice 2]

Continental Tire North America, Inc., Grant of Petition for Decision of Inconsequential Noncompliance

Continental Tire North America, Inc. (Continental Tire) has determined that certain tires it produced in 2004 and 2005 do not comply with the labeling requirements specified in S5.5(d) of 49 CFR 571.139, Federal Motor Vehicle Safety Standard (FMVSS) No. 139, “New pneumatic radial tires for light vehicles.” Pursuant to 49 U.S.C. 30118(d) and 30120(h), Continental Tire has petitioned for a determination that this noncompliance is inconsequential to motor vehicle safety and has filed an appropriate report pursuant to 49 CFR part 573, “Defect and Noncompliance Reports.” Notice of receipt of a petition was published, with a 30-day comment period, on January 31, 2006, in the Federal Register (71 FR 5116). NHTSA received no comments.

Affected are a total of approximately 2,500 model 235/85R16 C Grabber TR tires manufactured in 2004 and 2005. S5.5(d) of FMVSS No. 139 requires that each tire must be marked on each sidewall with the maximum load rating. The noncompliant tires are marked on the sidewall “max load single 1380 kg (3042 lbs)” whereas the correct marking should be “max load single 1400 kg (3085 lbs).” Continental Tire has corrected the problem that caused these errors so that they will not be repeated in future production.

Continental Tire believes that the noncompliance is inconsequential to motor vehicle safety and that no corrective action is warranted. Continental Tire states,

All other sidewall identification markings and safety information is correct. A consumer acting on the incorrect information would underload the vehicle by 20 kg per tire. This incorrect load capacity molding does not affect the safety, performance and durability of the tire; the tire was built as designed.

The agency agrees with Continental Tire's statement that the mismarking does not present a serious safety concern. The agency believes that the true measure of inconsequentiality to motor vehicle safety in this case is that there is no effect of the noncompliance on the operational safety of vehicles on which these tires are mounted. In the agency's judgment, the incorrect labeling will have an inconsequential effect on motor vehicle safety because, as Continental Tire states, a consumer acting on the incorrect information would underload the vehicle by 20 kg per tire which does not present a safety issue. In addition, the tires are certified to meet all the performance requirements of FMVSS No. 139, which is a compliance option for these tires. All other informational markings as required by FMVSS No. 139 are present.

In consideration of the foregoing, NHTSA has decided that the petitioner has met its burden of persuasion that the noncompliance described is inconsequential to motor vehicle safety. Accordingly, Continental Tire's petition is granted and the petitioner is exempted from the obligation of providing notification of, and a remedy for, the noncompliance.

Authority: (49 U.S.C. 30118, 30120; delegations of authority at CFR 1.50 and 501.8).

Issued on: March 14, 2006.
Daniel C. Smith,
Associate Administrator for Enforcement.

[FR Doc. E6-4019 Filed 3-20-06; 8:45 am]

BILLING CODE 4910-59-P